CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the Application Instructions relating to its proposed new competition for making new awards for training and technical assistance (T/TA) support to national service programs. The competition is open to current and prospective T/TA providers. Completion of the cooperative agreement award application is required to be considered for, or obtain a T/TA cooperative agreement with the Corporation. Copies of the information collection request can be obtained by contacting the office listed in the address section of this notice.

DATES: Written comments must be submitted to the individual and office listed in the ADDRESSES section by April 15, 2005.

ADDRESSES: You may submit comments, identified by the title of the information collection activity, by any of the following methods:

(1) By mail sent to: Corporation for National and Community Service, Office of Leadership Development and Training; Attention Mr. David Bellama, Associate Director, Room 9623; 1201 New York Avenue, NW., Washington, DC, 20525.

(2) By hand delivery or by courier to the Corporation's mailroom at Room 6010 at the mail address given in paragraph (1) above, between 9 a.m. and 4 p.m. Monday through Friday, except Federal holidays.

(3) By fax to: (202) 208-4151, Attention Mr. David Bellama, Associate Director.

(4) Electronically through the Corporation's e-mail address system: dbellama@cns.gov.

FOR FURTHER INFORMATION CONTACT: David Bellama, (202) 606-5000, ext. 483, or by e-mail at dbellama@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The application to be published by the Corporation's Office of Leadership Development and Training will be completed by applicant organizations interested in providing T/TA services to the Corporation's grantee programs. This application will be completed electronically using the Corporation's web-based grants management system, eGrants.

Current Action

The Corporation is seeking approval of the document entitled 2005 Application Instructions: Training and Technical Assistance Cooperative Agreements currently approved through emergency clearance. The application includes submission and compliance requirements, application instructions, selection criteria, and reporting requirements for applications selected for awards. The Application Instructions also include several appendices that require the following:

• SF424 Facesheet Instructions and Facesheet

• Assurances and Certifications

• SF424A Budget Instructions

• Survey on Ensuring Equal Opportunity

This emergency clearance for this information collection will expire on 5/31/05.

Type of Review: New; currently approved through emergency clearance.

Agency:Corporation for National and Community Service.

Title: 2005 Application Instructions: Training and Technical Assistance Cooperative Agreements.

OMB Number: 3045-0105.

Agency Number: None.

Affected Public: Current and prospective T/TA providers.

Total Respondents: 75.

Frequency: Once in three years.

Average Time Per Response: Averages 80 hour for preparing an application.

We expect to select approximately 15 T/TA providers for cooperative agreements. These 15 providers will prepare budget and activity projections at the beginning of the budget period (usually one year) and report semi-annually on actual activities and funds expended. It is anticipated that they will spend approximately 12 hours on the budget/activity projection and 34 hours each per semi-annual report, or 80 hours each per year.

The level of burden for both the application and the periodic budget planning and reporting is attributable to the extensive, national scope of the services that will need to be described in the application and the subsequent planning and reporting documents. The organizations selected for cooperative agreements are expected to provide materials and services that will serve Corporation grantees and subgrantees regardless of size (large non-profit institution, small community organization), type of program (Senior Corps, AmeriCorps, state or national parent organization, urban, rural, tribal), geographic location (east coast, west coast, U.S. territory, multi-site, multi-state), or experience (veteran program or new start-up).

Estimates for the above time burdens were determined by consulting a sample of current and potential respondents.

Estimated Total Burden Hours: 7200.

Total Burden Cost (capital/startup): None.

Total Burden Cost (operating/maintenance): None.

Comments submitted in response to this notice will be summarized and/or included in the request for Office of Management and Budget approval of the information collection request; they will also become a matter of public record.

Dated: February 7, 2005.
Gretchen Van Der Veer,
Director, Office of Leadership Development and Training.

[FR Doc. 05-2750 Filed 2-11-05; 8:45 am]

BILLING CODE 6050-$$-P